DEPARTMENT OF TRANSPORTATION

Federal Aviation Administration

14 CFR Part 71

[Docket No. FAA-2016-9266; Airspace Docket No. 16-ASO-5]

Proposed Amendment of Class E Airspace; Kill Devil Hills, NC: Withdrawal

AGENCY: Federal Aviation Administration (FAA), DOT.

ACTION: Notice of proposed rulemaking (NPRM), withdrawal.

SUMMARY: A Notice of proposed rulemaking (NPRM) published in the Federal Register on December 12, 2016 amending Class E airspace at First Flight Airport, Kill Devil Hills, NC is being withdrawn. Upon review, the FAA found that this is a duplicate of an NPRM published November 22, 2016.

DATES: Effective 0901 UTC. As of February 10, 2017 the proposed rule published December 12, 2016, at 81 FR 89399, is withdrawn.

FOR FURTHER INFORMATION CONTACT: John Fornito, Operations Support Group, Eastern Service Center, Federal Aviation Administration, P.O. Box 20636, Atlanta, Georgia 30320; telephone (404) 305-6364.

SUPPLEMENTARY INFORMATION:

History

On December 12, 2016, the FAA published in the Federal Register a NPRM to establish Class E airspace at Devil Hills, NC (81 FR 89399) Docket No. FAA-2016-9266. The document is being withdrawn as it was found to be a duplicate of one published in the Federal Register of November 22, 2016 (81 FR 83750)

Lists of Subjects in 14 CFR Part 71

Airspace, Incorporation by reference, Navigation (air).

The Withdrawal

Accordingly, pursuant to the authority delegated to me, the notice of proposed rulemaking, as published in the Federal Register on December 12, 2016 (81 FR 89399) (FR Doc. 2016-29630), is hereby withdrawn.

Authority: 49 U.S.C. 106(f), 106(g); 40103, 40113, 40120; E.O. 10854, 24 FR 9565, 3 CFR, 1959-1963 Comp., p. 389.

Issued in College Park, Georgia, on December 29, 2016.
Debra L. Hogan,
Acting Manager, Operations Support Group, Eastern Service Center, Air Traffic Organization.

[FR Doc. 2017-02490 Filed 2-9-17; 8:45 am]

BILLING CODE 4910-13-P